COMMODITY FUTURES TRADING COMMISSION

17 CFR Part 15

RIN 3038-AB88

Reporting Levels for Large Trader Reports; Security Futures Products

Correction

In rule document 02-6288 beginning on page 11569 in the issue of Friday, March 15, 2002, make the following corrections:

1. On page 11569, in the first column, under the heading SUMMARY:, in the fourth line, “features” should read, “futures”.

§ 15.03 [Corrected]

2. On page 11571, in § 15.03, in the table, under the column “Number of contracts”, in the second line from the bottom, “100” should read, “200”.

[FR Doc. C2-6288 Filed 3-22-02; 8:45 am]

BILLING CODE 1505-01-D

DEPARTMENT OF DEFENSE

Department of the Army

MTMC Pam 55-4, “How to do Business in the DoD Personal Property Program.” Defense Transportation Regulation Part IV, Tender of Service

Correction

In notice document 02-6582 beginning on page 12540 in the issue of Tuesday, March 19, 2002, make the following correction:

On page 12541, in the second column, in the second paragraph, in the seventh line, the word “exam” is changed to read “final”.

[FR Doc. C2-6582 Filed 3-22-02; 8:45 am]

BILLING CODE 1505-01-D

DEPARTMENT OF ENERGY

Federal Energy Regulatory Commission

18 CFR Part 388

[Docket Nos. RM02-4-000]

Notice of Extension of Time

Correction

Proposed rule document 02-5972 was inadvertently published in the Rules and Regulations section in the issue of Wednesday, March 13, 2002, appearing on page 11229. It should have appeared in the Proposed Rules section.

[FR Doc. C2-5972 Filed 3-22-02; 8:45 am]

BILLING CODE 1505-01-D

FEDERAL COMMUNICATIONS COMMISSION

Notice of Public Information Collection(s) Being Reviewed by the Federal Communications Commission

Correction

In notice document 02-6313 beginning on page 11692 in the issue of Friday, March 15, 2002, make the following correction:

On page 11692, in the third column, in the second line under the heading “DATES”, “March 14, 2002” should read, “May 14, 2002”.

[FR Doc. C2-6313 Filed 3-22-02; 8:45 am]

BILLING CODE 1505-01-D

PENSION BENEFIT GUARANTY CORPORATION

Required Interest Rate Assumption for Determining Variable-Rate Premium; Interest Assumptions for Multiemployer Plan Valuations Following Mass Withdrawal

Correction

In notice document 02-6428 beginning on page 11722 in the issue of March 15, 2002, make the following correction:

On page 11722, in the third column, under the heading Variable-Rate Premiums in the first paragraph, in the tenth line, the phrase “(currently 85 percent)” is removed.

[FR Doc. C2-6428 Filed 3-22-02; 8:45 am]

BILLING CODE 1505-01-D

DEPARTMENT OF TRANSPORTATION

Research and Special Programs Administration

49 CFR Part 172

[Docket No. RSPA- 2002-11675 (HM-145M)]

RIN 2137-AD65

Hazardous Materials: Revisions to the List of Hazardous Substances and Reportable Quantities

Correction

In rule document 02-5089 on page 9926 in the issue of Tuesday, March 5, 2002, make the following correction:

On page 9927, in the third column, Table 1 to Appendix A is corrected to read as set forth below:

Table 1 to Appendix A—Hazardous Substances Other Than Radionuclides
Hazardous substance | Reportable quantity (RQ) pounds (kilograms)
[REMOVE]
* * * * *
2,4,6-Tribromophenol | 100
K140 | 100
K156 | 1
K157 | 1
K158 | 1
K169 | 10
K170 | 1
K171 | 1
K172 | 1
* * * * *
[REVISE]
* * * * *
Chloromethyl methyl ether | 10 (4.54)
* * * * *
Dichloromethyl ether | 10 (4.54)
* * * * *
Methane, chloromethoxy- | 10 (4.54)
* * * * *
Methane, oxybis(chloro- | 10 (4.54)
* * * * *
[ADD]
* * * * *
K156 | 1 (0.454)
K157 | 1 (0.454)
K158 | 1 (0.454)
K169 | 10 (4.54)
K170 | 1 (0.454)
K171 | 1 (0.454)
K172 | 1 (0.454)
K174 | 1 (0.454)
K175 | 1 (0.454)
K176 | 1 (0.454)
K177 | 5000 (2270)
K178 | 1 (0.454)

[FR Doc. C2-5089 Filed 3-22-02; 8:45 am]

BILLING CODE 1505-01-D